DEPARTMENT OF LABOR

Employment and Training Administration

[TA-W-62,227]

Plastech Engineered Products, Inc., Fowlerville Division, Currently Known as JCIM, LLC, Fowlerville, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on November 16, 2007, applicable to workers of Plastech Engineered Products, Inc., Fowlerville Division, Fowlerville, Michigan. The notice was published in the Federal Register on December 10, 2007 (72 FR 69710).

At the request of the State agency, the Department reviewed the certification for workers of the subject firm. The workers are engaged in the production of injection molded automotive plastic parts.

New information shows that as the result of a change in ownership on July 1, 2008, Plastech Engineered Products, Inc., Fowlerville Division, Fowlerville, Michigan, is currently known as JCIM, LLC.

Accordingly, the Department is amending this certification to include workers of the subject firm whose Unemployment Insurance (UI) wages are reported under the successor firm, JCIM, LLC.

The amended notice applicable to TA-W-62,227 is hereby issued as follows:

All workers of Plastech Engineered Products, Inc., Fowlerville Division, currently known as JCIM, LLC, Fowlerville, Michigan, who became totally or partially separated from employment on or after September 17, 2006, through November 16, 2009, are eligible to apply for adjustment assistance under Section 223 of the Trade Act of 1974, and are also eligible to apply for alternative trade adjustment assistance under Section 246 of the Trade Act of 1974.

Signed at Washington, DC, this 14th day of August 2008.
Linda G. Poole,
Certifying Officer, Division of Trade Adjustment Assistance.

[FR Doc. E8-19406 Filed 8-20-08; 8:45 am]

BILLING CODE 4510-FN-P